DEPARTMENT OF STATE

[Public Notice 5605]

30-Day Notice of Proposed Information Collection DS-3032, Choice of Address and Agent for Immigrant Visa Applicants, OMB No. 1405-0126

ACTION: Notice of request for public comment and submission to OMB of proposed collection of information.

SUMMARY: The Department of State has submitted the following information collection request to the Office of Management and Budget (OMB) for approval in accordance with the Paperwork Reduction Act of 1995.

• Title of Information Collection: Choice of Address and Agent for Immigrant Visa Applicants.

• OMB Control Number: 1405-0126.

• Type of Request: Extension of a Currently Approved Collection.

• Originating Office: Bureau of Consular Affairs, Office of Visa Services.

• Form Number: DS-3032.

• Respondents: All immigrant visas applicants.

• Estimated Number of Respondents: 330,000.

• Estimated Number of Responses: 330,000.

• Average Hours per Response: 10 minutes.

• Total Estimated Burden: 55,000 hours.

• Frequency: Once per application.

• Obligation to Respond: Required to obtain benefit.

DATES: Submit comments to the Office of Management and Budget (OMB) for up to 30 days from November 7, 2006.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the proposed information collection and supporting documents, to Andrea Lage of the Office of Visa Services, U.S. Department of State, 2401 E. Street, NW., L-603, Washington, DC 20522, who may be reached at (202) 663-1221 or lageab@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of Proposed Collection

When an approved immigrant visa petition is received at the National Visa Center (NVC) and is determined to be current for processing, NVC will send the petition beneficiary Form DS-3032, which allows the applicant to choose an agent to receive mailing from NVC and assist in the paperwork and payment of fees. The applicant is not required to choose an agent and may have all mailing sent to an address abroad. However, the alien's case will be held at NVC until the signed form is returned. If the form is not returned within one year, NVC will begin the case termination process. DS-3032 is not required if a G-28 (Notice of Entry of Appearance as Attorney or Representative) is received from DHS and the attorney is the agent, the alien is self-petitioning, or a child is being adopted. Once the form has been signed and returned to NVC the applicant process will proceed.

Methodology

DS-3032 will be submitted via mail to the National Visa Center.

Additional Information:

Dated: October 18, 2006.
Stephen A. Edson,
Deputy Assistant Secretary, Bureau of Consular Affairs, Department of State.

[FR Doc. E6-18774 Filed 11-6-06; 8:45 am]

BILLING CODE 4710-06-P